DEPARTMENT OF ENERGY

Federal Energy Regulatory Commission

Combined Notice of Filings

Take notice that the Commission has received the following Natural Gas & Oil Pipeline Rate and Refund Report filings:

Filings Instituting Proceedings

Docket Numbers: RP23-753-000.

Applicants: Portland Natural Gas Transmission System.

Description: § 4(d) Rate Filing: Irving Oil Name Change—NR Amendment to be effective 5/1/2023.

Filed Date: 5/1/23.

Accession Number: 20230501-5303.

Comment Date: 5 p.m. ET 5/15/23.

Docket Numbers: RP23-754-000.

Applicants: Algonquin Gas Transmission, LLC.

Description: § 4(d) Rate Filing: Negotiated Rates—Various Releases eff 5-1-23 to be effective 5/1/2023.

Filed Date: 5/1/23.

Accession Number: 20230501-5366.

Comment Date: 5 p.m. ET 5/15/23.

Docket Numbers: RP23-756-000.

Applicants: Northern Natural Gas Company.

Description: Compliance filing: 20230501 Winter PRA Filing to be effective N/A.

Filed Date: 5/1/23.

Accession Number: 20230501-5369.

Comment Date: 5 p.m. ET 5/15/23.

Docket Numbers: RP23-757-000.

Applicants: Texas Eastern Transmission, LP.

Description: § 4(d) Rate Filing: Negotiated Rates—Nextera to TVA perm rel eff 5-1-23 to be effective 5/1/2023.

Filed Date: 5/2/23.

Accession Number: 20230502-5000.

Comment Date: 5 p.m. ET 5/15/23.

Docket Numbers: RP23-758-000.

Applicants: Alliance Pipeline L.P.

Description: Annual Report of Operational Purchases and Sales of Alliance Pipeline L.P.

Filed Date: 5/1/23.

Accession Number: 20230501-5519.

Comment Date: 5 p.m. ET 5/15/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-609-000.

Applicants: Texas Gas Transmission, LLC.

Description: Report Filing: 2022 Operational Purchases and Sales Report Filing to be effective N/A.

Filed Date: 5/1/23.

Accession Number: 20230501-5061.

Comment Date: 5 p.m. ET 5/15/23.

Docket Numbers: RP13-212-000.

Applicants: Boardwalk Storage Company, LLC.

Description: Report Filing: 2022 Operational Purchases and Sales Report Filing to be effective N/A.

Filed Date: 5/1/23.

Accession Number: 20230501-5058.

Comment Date: 5 p.m. ET 5/15/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2023.
Debbie-Anne A. Reese,
Deputy Secretary.

[FR Doc. 2023-09978 Filed 5-9-23; 8:45 am]

BILLING CODE 6717-01-P